COMMISSION ON CIVIL RIGHTS

Notice of Public Meeting of the Kansas Advisory Committee to Hear Testimony Regarding Civil Rights and Voting Requirements in the State

AGENCY: U.S. Commission on Civil Rights.

ACTION: Announcement of meeting.

SUMMARY: Notice is hereby given, pursuant to the provisions of the rules and regulations of the U.S. Commission on Civil Rights (Commission) and the Federal Advisory Committee Act that the Kansas Advisory Committee (Committee) will hold a meeting on Thursday, January 28, 2015, from 9:00 a.m. to 5:15 p.m. CST for the purpose of hearing testimony regard the civil rights impact of the State's 2013 Secure and Fair Elections (S.A.F.E.) Act.

The meeting will take place on Thursday, January 28, 2016 from 9:00 a.m. to 5:15 p.m. at the Topeka and Shawnee County Public Library, located at 1515 SW 10th Avenue, Topeka, Kansas 66604. This meeting is free and open to the public. Parking will available at the event free of charge. Individuals with disabilities requiring reasonable accommodations should contact the Midwest Regional Office a minimum of ten days prior to the meeting to request appropriate arrangements.

Of concern to the Committee is the potential for voter identification and proof of citizenship requirements as outlined in the S.A.F.E. Act to prevent citizens from exercising their right to vote—in particular that these requirements may result in a disparate impact on the basis of race, color, age, religion, or disability.

Members of the public are invited and welcomed to make statements during the open forum period beginning at 4:30 p.m. In addition, members of the public may submit written comments; the comments must be received in the regional office within 30 days after the meeting. Written comments may be mailed to the Regional Programs Unit, U.S. Commission on Civil Rights, 55 W. Monroe St., Suite 410, Chicago, IL 60615. They may also be faxed to the Commission at (312) 353-8324, or emailed to Administrative Assistant, Corrine Sanders at csanders@usccr.gov. Persons who desire additional information may contact the Regional Programs Unit at (312) 353-8311.

Records and documents discussed during the meeting will be available for public viewing prior to and after the meeting at https://database.faca.gov/committee/meetings.aspx?cid=249 and clicking on the “Meeting Details” and “Documents” links. Records generated from this meeting may also be inspected and reproduced at the Regional Programs Unit, as they become available, both before and after the meeting. Persons interested in the work of this Committee are directed to the Commission's Web site, http://www.usccr.gov, or may contact the Regional Programs Unit at the above email or street address.

Agenda:

• Opening Remarks and Introductions (9:00 a.m.-9:15 a.m.)

• Panel 1: Academic (9:15 a.m.-10:30 a.m.)

• Panel 2: Community (10:45 a.m.-12:00 p.m.)

• Break (12:00 p.m.-1:30 p.m.)

• Panel 3: Voting Officials (1:30 p.m.-2:45 p.m.)

• Panel 4: Elected Officials (3:00 p.m.-4:15 p.m.)

• Open Forum (4:30 p.m.-5:00 p.m.)

• Closing Remarks (5:00 p.m.-5:15 p.m.)

DATES: The meeting will be held on Thursday, January 28, 2015, from 9:15 a.m.-5:00 p.m. CST.

FOR FURTHER INFORMATION CONTACT: Melissa Wojnaroski, DFO, at 312-353-8311 or mwojnaroski@usccr.gov

Dated December 3, 2015.
David Mussatt,
Chief, Regional Programs Unit.

[FR Doc. 2015-30858 Filed 12-7-15; 8:45 am]

BILLING CODE 6335-01-P